DEPARTMENT OF HEALTH AND HUMAN SERVICES

National Institutes of Health

National Institute of Dental & Craniofacial Research; Notice of Closed Meetings

Pursuant to section 10(d) of the Federal Advisory Committee Act, as amended (5 U.S.C. Appendix 2), notice is hereby given of the following meetings.

The meetings will be closed to the public in accordance with the provisions set forth in sections 552b(c)(4) and552b(c)(6), Title 5 U.S.C., as amended. The grant applications and the discussions could disclose confidential trade secrets or commercial property such as patentable material, and personal information concerning individuals associated with the grant applications, the disclosure of which would constitute a clearly unwarranted invasion of personal privacy.

Name of Commitee: National Institute of Dental and Craniofacial Research Special Emphasis Panel, Review of R03s and R21s Application.

Date: February 23, 2009.

Time: 12:30 p.m. to 4 p.m.

Agenda: To review and evaluate grant applications.

Place: NIDCR/NIH, Bethesda, MD 20892. (Telephone Conference Call).

Contact Person: Marilyn Moore-Hoon, PhD, Scientific Review Officer, Scientific Review Branch, National Institute of Dental and Craniofacial Research, 6701 Democracy Blvd., Rm. 676, Bethesda, MD 20892-4878, 301-594-4861, mooremar@nidcr.nih.gov.

Name of Commitee: National Institute of Dental and Craniofacial Research Special Emphasis Panel, Review of Contract RFP NHLBI-DE-09-10 Salivary Gland Tumor Biorepository.

Date: March 12, 2009.

Time: 12 p.m. to 2 p.m.

Agenda: To review and evaluate contract proposals.

Place: National Institutes of Health, Bethesda, MD 20892. (Telephone Conference Call)

Contact Person: Jonathan Horsford, PhD, Scientific Review Officer, Natl Inst of Dental and Craniofacial Research, National Insitutes of Health, 6701 Democracy Blvd, Room 664, Bethesda, MD 20892, 301-594-4859, horsforj@mail.nih.gov.

(Catalogue of Federal Domestic Assistance Program Nos. 93.121, Oral Diseases and Disorders Research, National Institutes of Health, HHS)

Dated: January 27, 2009.
Jennifer Spaeth,
Director, Office of Federal Advisory Committee Policy.

[FR Doc. E9-2277 Filed 2-3-09; 8:45 am]

BILLING CODE 4140-01-P